CORPORATION FOR NATIONAL AND COMMUNITY SERVICE

Information Collection; Submission for OMB Review, Comment Request

AGENCY: Corporation for National and Community Service.

ACTION: Notice.

SUMMARY: The Corporation for National and Community Service (CNCS) has submitted a modification to a currently approved public information collection request (ICR) entitled Senior Corps Grant Application for review and approval in accordance with the Paperwork Reduction Act of 1995, Public Law 104-13, (44 U.S.C. Chapter 35). Copies of this ICR, with applicable supporting documentation, may be obtained by calling the Corporation for National and Community Service, Wanda Carney, at (202) 606-6934 or email to wcarney@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; and

(2) Electronically by email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

The 60-day Notice soliciting comments was published on December 10, 2012 on page 73454. Five public comments were received. All comments received supported all changes that would streamline language, remove redundant text, and simplify and reorder narrative questions to be clearer for applicants to address.

Description: CNCS is seeking approval of the Senior Corps Grant Application, as revised. The Grant Application is used by RSVP, Foster Grandparent and Senior Companion Program grantees, and for potential applicants. The Senior Corps Grant Application is currently approved through September 30, 2015.

Type of Review: Revision of a currently approved collection.

Agency: Corporation for National and Community Service.

Title: National Senior Corps Grant Application.

OMB Number: 3045-0035.

Agency Number: None.

Affected Public: Current and potential grantees of the RSVP, Foster Grandparent, and Senior Companion programs.

Total Respondents: 1,519.

Frequency: Annual.

Average Time Per Response: 5 hours.

Estimated Total Burden Hours: 7,595.

Total Burden Cost (capital/startup): None.

Total Burden Cost (operating/maintenance): None.

Dated: April 15, 2013.
Erwin J. Tan,
Director, Senior Corps.

[FR Doc. 2013-09136 Filed 4-17-13; 8:45 am]

BILLING CODE 6050-28-P